DEPARTMENT OF EDUCATION

34 CFR Chapter III

[Catalog of Federal Domestic Assistance (CFDA) Number: 84.264A]

Final Extension of Project Period and Waiver; Rehabilitation Continuing Education Program for the Technical Assistance and Continuing Education Centers (TACE Centers)

AGENCY: Rehabilitation Services Administration, Office of Special Education and Rehabilitative Services, Department of Education.

ACTION: Final extension of project period and waiver.

SUMMARY: The Secretary waives the requirements that generally prohibit project periods exceeding five years and extensions of project periods involving the obligation of additional Federal funds. This extension and waiver enables the currently funded TACE Centers to receive funding through September 30, 2014.

DATES: The extension of the project period and waiver are effective July 18, 2013.

FOR FURTHER INFORMATION CONTACT: RoseAnn Ashby, U.S. Department of Education, 400 Maryland Avenue SW., Room 5055, Potomac Center Plaza, Washington, DC 20202-2800. Telephone: (202) 245-7258.

If you use a telecommunications device for the deaf (TDD) or a text telephone (TTY), call the Federal Relay Service (FRS), toll-free, at 1-800-877-8339.

SUPPLEMENTARY INFORMATION: On March 15, 2013, the Department published a notice in the Federal Register (78 FR 16447) proposing an extension of project period and a waiver of 34 CFR 75.250 and 34 CFR 75.261(c)(2) in order to—

(1) Enable the Secretary to provide additional funds to eight of the currently funded TACE Centers for an additional 12-month period, from October 1, 2013, through September 30, 2014, and to provide additional funds to two of the TACE Centers from December 22, 2013, through September 30, 2014; and

(2) Invite comments on the proposed extension of project period and waiver.

There are no substantive differences between the proposed extension and waiver and this final extension and waiver.

Public Comment

In response to our invitation in the proposed extension of project period and waiver, seven parties submitted comments. All of the commenters supported the Department's proposed extension and waiver, to permit eight of the TACE Centers to receive Federal funds from October 1, 2013, through September 30, 2014, and to permit two of the TACE Centers to receive funds from December 22, 2013, through September 30, 2014.

Generally, we do not address technical and other minor changes. In addition, we do not address general comments that raise concerns not directly related to the proposed extension and waiver.

Analysis of Comments and Changes: An analysis of the comments and of any changes in the extension and waiver since publication of the proposed extension and waiver follows.

Comment: Seven commenters supported extending the TACE Centers' project period for another year to avoid a disruption in the technical assistance (TA) and continuing education (CE) provided to State vocational rehabilitation (VR) agencies and their partners in the ten Federal regions.

Discussion: We appreciate the commenters' support.

Changes: None.

Background

On June 5, 2008, and October 20, 2008, the Department published notices in the Federal Register (73 FR 32006, 73 FR 62263) inviting applications for new awards for fiscal years (FYs) 2008 and 2009 for TACE Centers to be funded under the Rehabilitation Training Program, authorized under Section 302 of the Rehabilitation Act of 1973, as amended. The Department awarded grants to a total of 10 TACE Centers—eight in FY 2008 and two in early FY 2009—for a period of 60 months. All 10 projects are scheduled to end in calendar year 2013.

The purpose of these centers is to improve the quantity and quality of employment outcomes for individuals with disabilities through enhanced technical assistance (TA) and continuing education (CE) for State VR agencies and agency partners that cooperate with State VR agencies in providing VR and other rehabilitation services (e.g., Centers for Independent Living, Client Assistance Programs, and Community Rehabilitation Programs).

The TACE Centers contribute to the following outcomes: Improved quality of VR services, increased effectiveness and efficiency of State VR agencies in delivering VR services, and improved quantity and quality of VR employment outcomes for individuals with disabilities. The TACE Centers must contribute to these outcomes by providing, either directly or through contract, TA to State VR agencies and agency partners. The TACE Centers must also provide CE to employees of State VR agencies and agency partners on topics that are identified jointly by the Rehabilitation Services Administration and each TACE Center's advisory committee, and included in the TACE Center's annual work plan.

The Department is in the process of reviewing and analyzing the current program to determine future needs, strategies, and funding priorities for FY 2014. As such, we do not believe that it would be in the public interest to run a competition for new TACE Centers this year.

For this reason, the Secretary waives the requirements in 34 CFR 75.250 and 34 CFR 75.261(c)(2), which prohibit project periods exceeding five years and extensions of project periods involving the obligation of additional Federal funds. The Secretary also extends the current project period for the ten TACE Center grantees funded in FYs 2008 and 2009 until September 30, 2014.

This extension of project period and waiver allows the ten TACE Center grantees to request continuation funding in FY 2013 for project periods through FY 2014. We base our decisions regarding continuation awards on the program narratives, budgets, budget narratives, and program performance reports submitted by these ten TACE Center grantees and the requirements in 34 CFR 75.253. Any activities to be carried out during the year of a continuation award must be consistent with, or be a logical extension of, the scope, goals, and objectives of a grantee's application as approved in the 2008 TACE Center competitions. The 2008 TACE Center notices inviting applications will continue to govern these projects during the extension year.

Waiver of Delayed Effective Date

The Administrative Procedure Act requires that a substantive rule must be published at least 30 days before its effective date, except as otherwise provided for good cause (5 U.S.C. 553(d)(3)). We have not made any substantive changes to the proposed extension of project period and waiver. The Secretary has therefore determined to waive the delayed effective date to ensure timely continuation grants to the entities affected and continuation of the valuable services the TACE Centers provide.

Regulatory Flexibility Act Certification

The Secretary certifies that this final extension of the project period and waiver will not have a significant economic impact on a substantial number of small entities. The only entities that will be affected are the current grantees and any other potential applicants.

Paperwork Reduction Act of 1995

The final extension of project period and waiver do not contain any information collection requirements.

Intergovernmental Review

This program is not subject to the requirements of Executive Order 12372 and the regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 15, 2013.
Michael K. Yudin,
Delegated the authority to perform the functions and the duties of the Assistant Secretary for Special Education and Rehabilitative Services.

[FR Doc. 2013-17271 Filed 7-17-13; 8:45 am]

BILLING CODE 4000-01-P